DEPARTMENT OF COMMERCE

International Trade Administration

[A-351-832, A-122-840, A-428-832, A-560-815, A-201-830, A-841-805, A-274-804, A-823-812]

Notice of Postponement of Preliminary Antidumping Duty Determinations: Carbon and Certain Alloy Steel Wire Rod From Brazil, Canada, Germany, Indonesia, Mexico, Moldova, Trinidad and Tobago, and Ukraine

AGENCY: Import Administration, International Trade Administration, Department of Commerce.

EFFECTIVE DATE: March 15, 2002.

FOR FURTHER INFORMATION CONTACT: Charles Riggle (Brazil, Canada, Mexico, and Trinidad and Tobago), Robert James (Germany), Donna Kinsella (Indonesia), Dana Mermelstein (Moldova), and James Doyle (Ukraine) at (202) 482-0650, (202) 482-0649, (202) 482-0194, (202) 482-1391, and (202) 482-0159, respectively, Import Administration, International Trade Administration, U.S. Department of Commerce, 14th Street and Constitution Avenue, NW, Washington, DC 20230.

Postponement of Preliminary Determinations

The Department of Commerce (the Department) is postponing further the preliminary determinations in the antidumping duty investigations of Carbon and Certain Alloy Steel Wire Rod From Brazil, Canada, Germany, Indonesia, Mexico, Moldova, Trinidad and Tobago, and Ukraine.

The deadline for issuing the preliminary determinations in these investigations is now April 2, 2002.

On January 22, 2002, the Department postponed the deadline for issuing the preliminary determinations in these investigations by 30 days (i.e., until March 13, 2002). See Notice of Postponement of Preliminary Antidumping Duty Determinations: Carbon and Certain Alloy Steel Wire Rod From Brazil, Canada, Germany, Indonesia, Mexico, Moldova, Trinidad and Tobago, and Ukraine, 67 FR 3877 (January, 28, 2002). On March 4, 2002, Co-Steel Raritan, Inc., GS Industries, Keystone Consolidated Industries, Inc., and North Star Steel Texas, Inc. (collectively, petitioners), requested an additional 20-day postponement of the preliminary determinations in these investigations, in accordance with section 351.205(b)(2) of the Department's regulations. Therefore, pursuant to section 733(c)(1)(A) of the Tariff Act of 1930, as amended, and section 351.205(e) of the regulations, and absent any compelling reason to deny the request, the Department is postponing the deadline for issuing these determinations (i.e., until April 2, 2002).

March 7, 2002
Faryar Shirzad,
Assistant Secretary for Import Administration.

[FR Doc. 02-6291 Filed 3-14-02; 8:45 am]

BILLING CODE 3510-DS-S